DEPARTMENT OF EDUCATION

Applications for New Awards; Indian Education Discretionary Grants Programs; Professional Development Program—Native American Teacher Retention Initiative; Corrections

AGENCY: Office of Elementary and Secondary Education, Department of Education.

ACTION: Notice; corrections.

SUMMARY: On January 17, 2025, the Department of Education (Department) published in the Federal Register a notice inviting applications (NIA) for the fiscal year (FY) 2025 Indian Education Discretionary Grants Programs; Professional Development Program—Native American Teacher Retention Initiative competition. The Department is correcting the NIA by changing the date of the pre-application webinar; extending the deadline for transmittal of applications, together with the intergovernmental review deadline; amending the Background information; changing the header of a requirement; adjusting certain selection criteria and point values; and editing the performance measure. All other information in the NIA remains the same.

DATES: These corrections are applicable on April 3, 2025.

FOR FURTHER INFORMATION CONTACT: Linda Brake, U.S. Department of Education, 400 Maryland Avenue SW, Room 3W239, Washington, DC 20202. Telephone: (202) 987-0796. Email: linda.brake@ed.gov.

If you are deaf, hard of hearing, or have a speech disability and wish to access telecommunications relay services, please dial 7-1-1.

SUPPLEMENTARY INFORMATION: On January 17, 2025, the Department published in the Federal Register an NIA for the FY 2025 Indian Education Discretionary Grants Programs; Professional Development Program—Native American Teacher Retention Initiative competition (90 FR 5863). The Department is correcting the NIA as part of a comprehensive review of recently published FY 2025 NIAs. This reevaluation seeks to ensure that all priorities and requirements for the Department's FY 2025 competitions align with the objectives established by the Trump Administration while fostering consistency across all grant programs. Additionally, the Department is dedicated to optimizing the impact of our grant competitions on students and families, as well as enhancing the economic effectiveness of federal education funding. Specifically, the Department is changing the date of the pre-application webinar; extending the deadline for transmittal of applications together with the intergovernmental review deadline; amending the Background information; changing the header of a requirement; adjusting certain selection criteria and point values; and editing the performance measure. All other information in the NIA remains the same.

The Department will not consider applications submitted prior to April 3, 2025. Applicants that have already submitted an application under the Professional Development—Native American Teacher Retention Initiative program must submit an updated application on or before the extended application deadline of May 13, 2025, for the application to be reviewed. Program staff will endeavor to notify applicants that have already submitted an application of the requirement to submit an updated application. The Department will consider the application that is last submitted and timely received by 11:59:59 p.m., Eastern Time, on May 13, 2025.

Program Authority: 20 U.S.C. 7442.

Corrections

In FR Doc. 2025-01315, published in the Federal Register on January 17, 2025 (90 FR 5863), we make the following corrections:

1. On page 5863, in the third column, revise the text under DATES to read as follows:

Applications Originally Available: January 17, 2025.

Updated Application Instructions Available: April 7, 2025.

Date of Pre-Application Webinar: April 9, 2025.

Deadline for Notice of Intent to Apply: April 18, 2025.

Deadline for Transmittal of Applications: May 13, 2025.

Deadline for Intergovernmental Review: July 13, 2025.

2. On page 5864, in the first column, make the following corrections under the Background heading:

a. Revise the first sentence by removing the words “who reflect the diversity of the students they serve”.

b. Revise the fifth sentence by removing the words “in ways that create a diverse and well-prepared educator workforce”.

3. On page 5865, in the third column, delete the heading “Statutory Hiring Preference” and replace it with “Indian Self-Determination and Education Assistance Act Requirement”.

4. On page 5867, in the third column, in paragraph (b) Quality of project design, make the following corrections:

a. Revise the parenthetical at the end of paragraph (b)(1) to read “(Up to 7 points)”.

b. Revise the parenthetical at the end of paragraph (b)(2) to read “(Up to 7 points)”.

c. Revise the parenthetical at the end of paragraph (b)(3) to read “(Up to 6 points)”.

d. Remove paragraph (b)(4).

5. On page 5867, beginning at the bottom of the third column and carrying over to the first four lines of the first column of page 5868, remove paragraph (d) Quality of project personnel.

6. On page 5868, in the first column, redesignate paragraph (e) Adequacy of resources as paragraph (d) Adequacy of resources.

7. On page 5868, in the first column, redesignate paragraph (f) Quality of management plan as paragraph (e) Quality of management plan.

8. On page 5868, in the first column, in redesignated paragraph (e) Quality of management plan, make the following corrections:

a. Revise the parenthetical that follows the heading Quality of the management plan to read “(up to 25 points)”.

b. Revise the parenthetical that follows redesignated paragraph (e)(1) to read “(Up to 9 points)”.

c. Revise the parenthetical that follows redesignated paragraph (e)(2) to read “(Up to 8 points)”.

d. After redesignated paragraph (e)(2), add the following: “(3) The extent to which the time commitments of the project director and principal investigator and other key project personnel are appropriate and adequate to meet the objectives of the proposed project. (Up to 8 points)”.

9. On page 5868, in the first column, redesignate paragraph (g) Quality of the project evaluation or other evidence-building as paragraph (f) Quality of project evaluation or other evidence-building.

10. On page 5869, in the first column, under the heading Performance Measures, in the sixth line, remove the term “Indian”.

Accessible Format: On request to the program contact person listed under FOR FURTHER INFORMATION CONTACT, individuals with disabilities can obtain this notice and the NIA in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site, you can view this document, as well as all other Department documents published in the Federal Register, in text or Portable Document Format (PDF). To use PDF, you must have Adobe Acrobat Reader, which is available free at the site.

You may also access Department documents published in the Federal Register by using the article search feature at www.federalregister.gov. Specifically, through the advanced search feature at this site, you can limit your search to documents published by the Department.

Hayley B. Sanon,
Principal Deputy Assistant Secretary and Acting Assistant Secretary Office of Elementary and Secondary Education.

[FR Doc. 2025-05720 Filed 4-2-25; 8:45 am]

BILLING CODE 4000-01-P